DEPARTMENT OF THE INTERIOR

National Park System Concessions Management Advisory Board Reestablishment

AGENCY: National Park Service, Interior.

ACTION: Notice of Reestablishment of the National Park Service Concessions Management Advisory Board.

SUMMARY: The Secretary of the Interior intends to administratively reestablish the National Park Service Concessions Management Advisory Board. This action is necessary and in the public interest in connection with the performance of statutory duties imposed upon the Department of the Interior and the National Park Service.

FOR FURTHER INFORMATION CONTACT: Jo Pendry, Chief, Commercial Services Program on 202-513-7156.

SUPPLEMENTARY INFORMATION: The National Park Service Concessions Management Advisory Board was established by Title IV, Section 409 of Public Law 105-391, the National Park Omnibus Management Act of 1998, November 13, 1998, with a termination date of December 31, 2008. Extension legislation was introduced in September 2008 that would have extended the Board for one year. We anticipate action on this issue during the 111th Congress, but cannot predict if or when that will occur.

The advice and recommendations provided by the Board and its subcommittees fulfill an important need within the Department of the Interior and the National Park Service, and it therefore is necessary to administratively reestablish the Board to ensure that its work is not disrupted. The Board's six members will be balanced to represent a cross-section of disciplines and expertise relevant to the National Park Service mission. The administrative reestablishment of the Board comports with the requirements of the Federal Advisory Committee Act, as amended (5 U.S.C., Appendix), and follows consultation with the General Services Administration. The reestablishment will be effective on the date the charter is filed pursuant to section 9(c) of the Act and 41 CFR 102-3.70.

Certification: I hereby certify that the administrative reestablishment of the National Park Service Concessions Management Advisory Board is necessary and in the public interest in connection with the performance of duties imposed on the Department of the Interior by the Act of August 25, 1916, 16 U.S.C. 1 et seq., and other statutes relating to the administration of the National Park System.

Dated: January 12, 2009.
Dirk Kempthorne,
Secretary of the Interior.

[FR Doc. E9-1082 Filed 1-16-09; 8:45 am]

BILLING CODE 4312-53-P